GENERAL SERVICES ADMINISTRATION

41 CFR Parts 300-3, 301-30, 301-31, Appendix E to Chapter 301, and Parts 302-3, 302-4, 302-6, and 303-70

[FTR Amendment 2010-06; FTR Case 2010-303; Docket Number 2010-0019, Sequence 1]

RIN 3090-AJ06

Federal Travel Regulation (FTR); Terms and Definitions for “Dependent”, “Domestic Partner”, “Domestic Partnership” and “Immediate Family”

AGENCY: Office of Governmentwide Policy, General Services Administration (GSA).

ACTION: Interim rule with request for comments.

SUMMARY: GSA is amending the Federal Travel Regulation (FTR) by adding terms and definitions for “Dependent”, “Domestic partner” and “Domestic partnership”, and by revising the definition of “Immediate family” to include “Domestic partner” and children, dependent parents, and dependent brothers and sisters of the Domestic partner as named members of the employee's household. This interim rule also adds references to domestic partners and committed relationships, where applicable, in the FTR.

DATES: Effective Date: March 3, 2011.

Comment Due Date: Interested parties should submit written comments to the Regulatory Secretariat on or before December 20, 2010 to be considered in the formulation of a final rule.

ADDRESSES: Submit comments identified by FTR case 2010-303 by any of the following methods:

• Federal eRulemaking Portals: http://www.regulations.gov. Submit comments via the Federal eRulemaking portal by inputting “FTR Case 2010-303” under the heading “Enter Keyword or ID” and selecting “Search.” Select the link “Submit a Comment” that corresponds with “FTR Case 2010-303.” Follow the instructions provided at the “Submit a Comment” screen. Please include your name, company name (if any), and “FTR Case 2010-303” on your attached document.

• Fax: 202-501-4067.

• Mail: General Services Administration, Regulatory Secretariat (MVCB), 1275 First Street, NW., 7th Floor, Attn: Hada Flowers, Washington, DC 20417.

Instructions: Please submit comments only and cite FTR case 2010-303 in all correspondence related to this case. All comments received will be posted without change to http://www.regulations.gov, including any personal information provided.

FOR FURTHER INFORMATION CONTACT: The Regulatory Secretariat (MVCB), 7th Floor, GS Building, Washington, DC 20417, (202) 501-4755, for information pertaining to status or publication schedules. For clarification of content, contact Mr. Rick Miller, Office of Travel, Transportation, and Asset Management (MT), General Services Administration, at (202) 501-3822 or e-mail at rodney.miller@gsa.gov. Please cite FTR Amendment 2010-06 FTR case 2010-303.

SUPPLEMENTARY INFORMATION:

A. Background

On June 17, 2009, President Obama signed a Presidential Memorandum on Federal Benefits and Non-Discrimination stating that “[t]he heads of all other executive departments and agencies, in consultation with the Office of Personnel Management, shall conduct a review of the benefits provided by their respective departments and agencies to determine what authority they have to extend such benefits to same-sex domestic partners of Federal employees.” The GSA conducted its review and, as part of that review, identified a number of changes to the FTR that could be made. Subsequently, on June 2, 2010, President Obama signed a Presidential Memorandum directing agencies to immediately take actions, consistent with existing law, to extend certain benefits, including travel and relocation benefits, to same-sex domestic partners of Federal employees, and, where applicable, to the children of same-sex domestic partners of Federal employees.

Pursuant to 5 U.S.C. 5707, the Administrator of General Services is authorized to prescribe necessary regulations to implement laws regarding Federal employees who are traveling while in the performance of official business away from their official stations. Similarly, 5 U.S.C. 5738 mandates that the Administrator of General Services prescribe regulations relating to official relocation. The overall implementing authority is the FTR, codified in Title 41 of the Code of Federal Regulations, Chapters 300-304 (41 CFR Chapters 300-304).

Pursuant to this authority, this interim rule adds the same terms and definitions, based on published Office of Personnel Management memorandum to agencies, dated June 2, 2010, “Implementation of the President's Memorandum Regarding Extension of Benefits to Same-Sex Domestic Partner of Federal Employees, and guidance from 5 CFR Part 875—“Federal Long Term Care Insurance Program”, for “Domestic partner” and “Domestic partnership”, adds a definition for “Dependent”, and revises the definition of “Immediate family” to include “Domestic partner” and children, dependent parents, and dependent brothers and sisters of the Domestic partner as named members of the employee's household. This rule also adds references to “Domestic partners” and “Domestic partnership,” where applicable, to travel and relocation allowances permitted under existing statutes. Due to current statutory restrictions, this interim rule does not apply to house-hunting trip expense reimbursement, the relocation income tax allowance, the income tax reimbursement allowance or non-federal source travel.

B. Executive Order 12866

This is a significant regulatory action and, therefore, has been reviewed in accordance with Section 6(a)(3)(B) of Executive Order 12866, Regulatory Planning and Review. This interim rule is not a major rule under 5 U.S.C. 804.

C. Regulatory Flexibility Act

This interim rule will not have significant economic impact on a substantial number of small entities within the meaning of the Regulatory Flexibility Act, 5 U.S.C. 601, et seq. The provisions of the Administrative Procedure Act (5 U.S.C. 553) requiring notice of proposed rulemaking, the opportunity for public participation, and a delay in effective date, are inapplicable because this regulation is on a matter relating to agency management or personnel or to public property, loans, grants, benefits, or contracts (5 U.S.C. 553(a)(2)). However, this is being published as an interim rule because this is a significant rule as defined in Executive Order 12866 and to provide transparency in the promulgation of Federal policies.

D. Paperwork Reduction Act

The Paperwork Reduction Act does not apply because the changes to the Federal Travel Regulation does not impose recordkeeping or information collection requirements, or the collection of information from offerors, contractors, or members of the public that require the approval of the Office of Management and Budget under 44 U.S.C. 3501, et seq.

E. Small Business Regulatory Enforcement Fairness Act

This interim rule is also exempt from congressional review prescribed under 5 U.S.C. 801 since it relates solely to agency management and personnel.

List of Subjects in 41 CFR Parts 300-3, 301-30, 301-31, Appendix E to Chapter 301, and Parts 302-3, 302-4, 302-6, and 303-70

Government employees, Relocation, Travel, and Transportation expenses.

Dated: October 26, 2010.
Martha Johnson,
Administrator of General Services.

For the reasons set forth in the preamble, under 5 U.S.C. 5701-5709, 5721-5738, and 5741-5742, GSA amends 41 CFR parts 300-3, 301-30, 301-31, Appendix E to Chapter 301, and parts 302-3, 302-4, 302-6, and 303-70 as set forth below:

PART 300-3—GLOSSARY OF TERMS

1. The authority citation for 41 CFR part 300-3 continues to read as follows:

Authority: 5 U.S.C. 5707; 40 U.S.C. 121(c); 49 U.S.C. 40118; 5 U.S.C. 5738; 5 U.S.C. 5741-5742; 20 U.S.C. 905(a); 31 U.S.C. 1353; E.O. 11609, as amended; 3 CFR, 1971-1975 Comp., p. 586, OMB Circular No. A-126, revised May 22, 1992.

2. Amend § 300-3.1 by adding, in alphabetical order, the definitions for “Dependent”, “Domestic partner” and “Domestic partnership”; and by revising the definition for “Immediate family”.

The added and revised text reads as follows:

§ 300-3.1 What do the following terms mean?

* * * * *

Dependent—An immediate family member of the employee.

Domestic partner—An adult in a domestic partnership with an employee of the same-sex.

Domestic Partnership—A committed relationship between two adults of the same sex, in which they—

(1) Are each other's sole domestic partner and intend to remain so indefinitely;

(2) Maintain a common residence, and intend to continue to do so (or would maintain a common residence but for an assignment abroad or other employment-related, financial, or similar obstacle);

(3) Are at least 18 years of age and mentally competent to consent to contract;

(4) Share responsibility for a significant measure of each other's financial obligations;

(5) Are not married or joined in a civil union to anyone else;

(6) Are not a domestic partner of anyone else;

(7) Are not related in a way that, if they were of opposite sex, would prohibit legal marriage in the U.S. jurisdiction in which they reside;

(8) Are willing to certify, if required by the agency, that they understand that willful falsification of any documentation required to establish that an individual is in a domestic partnership may lead to disciplinary action and the recovery of the cost of benefits received related to such falsification, as well as constitute a criminal violation under 18 U.S.C. 1001, and that the method for securing such certification, if required, shall be determined by the agency; and

(9) Are willing promptly to disclose, if required by the agency, any dissolution or material change in the status of the domestic partnership.

Immediate family—Any of the following named members of the employee's household at the time he/she reports for duty at the new permanent duty station or performs other authorized travel involving family members:

(1) Spouse;

(2) Domestic partner;

(3) Children of the employee, of the employee's spouse, or of the employee's domestic partner, who are unmarried and under 21 years of age or who, regardless of age, are physically or mentally incapable of self-support. (The term “children” shall include natural offspring; stepchildren; adopted children; grandchildren, legal minor wards or other dependent children who are under legal guardianship of the employee, of the employee's spouse, or of the domestic partner; and an unborn child(ren) born and moved after the employee's effective date of transfer.);

(4) Dependent parents (including step and legally adoptive parents) of the employee, of the employee's spouse, or of the employee's domestic partner; and

(5) Dependent brothers and sisters (including step and legally adoptive brothers and sisters) of the employee, of the employee's spouse, or of the employee's domestic partner, who are unmarried and under 21 years of age or who, regardless of age, are physically or mentally incapable of self-support.

* * * * *

PART 301-30—EMERGENCY TRAVEL

3. The authority citation for 41 CFR part 301-30 continues to read as follows:

Authority: 5 U.S.C. 5707.

§ 301-30.2 [Amended]

4. Amend § 301-30.2 by adding the words “or domestic partner's” after the word “spouse's”.

PART 301-31—THREATENED LAW ENFORCEMENT/INVESTIGATIVE EMPLOYEES

5. The authority citation for 41 CFR part 301-31 continues to read as follows:

Authority: 5 U.S.C. 5707.

§ 301-31.2 [Amended]

6. Amend § 301-31.2 by adding the words “or domestic partner's” after the word “spouse's”.

§ 301-31.10 [Amended]

7. Amend § 301-31.10, in the table, in the heading, second and third columns, by adding the words “, domestic partner” after the word “spouse”.

Appendix E to Chapter 301—Suggested Guidance for Conference Planning [Amended]

8. Amend Appendix E to Chapter 301, under the heading “NOTIFICATION”, in the eleventh bulleted entry, by adding the words “, domestic partners,” after the words “Activity schedule for spouses” and adding the words “, domestic partners” after the words “attributed to spouses”.

PART 302-3—RELOCATION ALLOWANCE BY SPECIFIC TYPE

9. The authority citation for 41 CFR part 302-3 continues to read as follows:

Authority: 5 U.S.C. 5738; 20 U.S.C. 905(a).

§ 302-3.227 [Amended]

10. Amend § 302-3.227—

a. In the heading by adding the words “or terminate my committed relationship with my domestic partner” after the words “from my spouse”, and adding the words “or domestic partner” after the words “my former spouse”.

b. By adding the words “or terminate your committed relationship with your domestic partner” after the words “from your spouse”, and adding the words “or domestic partner” after the words “your former spouse”.

PART 302-4—ALLOWANCES FOR SUBSISTENCE AND TRANSPORTATION

11. The authority citation for 41 CFR part 302-4 continues to read as follows:

Authority: 5 U.S.C. 5738; 20 U.S.C. 905(a); E.O. 11609, 36 FR 13747, 3 CFR, 1971-1973 Comp., p. 586.

§ 302-4.203 [Amended]

12. Amend § 302-4.203—

a. In the heading by adding the words “or domestic partner” after the words “will my spouse”.

b. By adding the words “or domestic partner” after the words “your spouse”.

§ 302-4.204 [Amended]

13. Amend § 302-4.204—

a. In the heading by adding the words “or domestic partner” after the words “If my spouse”.

b. By adding the words “or domestic partner” after the words “If your spouse”.

§ 302-4.205 [Amended]

14. Amend § 302-4.205—

a. In the heading by adding the words “or domestic partner” after the words “If my spouse” and adding the words “or domestic partner” after the words “is my spouse”.

b. By adding the words “or domestic partner” after the words “and your spouse”.

PART 302-6—ALLOWANCES FOR TEMPORARY QUARTERS SUBSISTENCE EXPENSES

15. The authority citation for 41 CFR part 302-6 continues to read as follows:

Authority: 5 U.S.C. 5738; 20 U.S.C. 905(a); E.O. 11609, 36 FR 13474, 3 CFR, 1971-1973 Comp., p. 586.

§ 302-6.100 [Amended]

16. Amend § 302-6.100—

a. In the table, in the heading of the second column, by adding the words “or domestic partner” after the words “unaccompanied spouse”.

b. In the table, in the heading of the third column, by adding the words “, domestic partner” after the words “accompanied spouse”.

c. In footnote 1 of the table, by adding the words “or domestic partner” after the words “when the spouse”.

PART 303-70—AGENCY REQUIREMENTS FOR PAYMENT OF EXPENSES CONNECTED WITH THE DEATH OF CERTAIN EMPLOYEES

17. The authority citation for 41 CFR part 303-70 continues to read as follows:

Authority: 5 U.S.C. 5721-5738; 5741-5742; E.O. 11609, 3 CFR, 1971-1975 Comp., p. 586.

§ 302-70.305 [Amended]

18. Amend § 303-70.305 by adding in paragraph (c) the words “or domestic partner” after the words “unaccompanied spouse”.

[FR Doc. 2010-27691 Filed 11-2-10; 8:45 am]

BILLING CODE 6820-14-P